SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before October 1, 2002.

ADDRESSES: Send all comments regarding whether this information collection is necessary for the proper performance of the function of the agency, whether the burden estimates are accurate, and if there are ways to minimize the estimated burden and enhance the quality of the collection, to Ying Lowery, Senior Economist, Office Advocacy, Small Business Administration, 409 3rd Street, SW., Suite 7800, Washington DC 20416.

FOR FURTHER INFORMATION CONTACT: Ying Lowery, Senior Economist, (202) 205-6947 or Curtis B. Rich, Management Analyst, (202) 205-7030.

SUPPLEMENTARY INFORMATION: Title: Impact of the American Disabled Act on Small Business.

Form No's: N/A.

Description of Respondents: Business Owners.

Annual Responses: 1000.

Annual Burden: 500.

Jacqueline White,
Chief, Administrative Information Branch.

[FR Doc. 02-19585 Filed 8-1-02; 8:45 am]

BILLING CODE 8025-01-P